FEDERAL COMMUNICATIONS COMMISSION

Notice of Public Information Collection(s) Being Reviewed by the Federal Communications Commission, Comments Requested

April 24, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 2, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-xxx.

Title: Spectrum Audit Letter.

Form No.: N/A.

Type of Review: New collection.

Respondents: Businesses or other for-profit, state, local or tribal government, not-for-profit institutions.

Number of Respondents: 300,000.

Estimated Time Per Response: .5 hour per response.

Total Annual Burden: 150,000 hours.

Total Annual Cost: None.

Needs and Uses: The information collected is required for an audit of the construction and operational status of all of the Private Land Mobile Radio (PLMR) and Fixed Microwave Radio (FMR) stations in the Commission's licensing database that are subject to rule-based construction and operational requirements. The Commission's Rules for the PLMR and FMR services require construction within a specified time frame and require a station to remain operational in order for the license to remain valid.

OMB Approval No.: 3060-0788.

Title: DTV Showings/Interference Agreements.

Form No.: FCC 301/FCC 340.

Type of Review: Revision of currently approved collection.

Respondents: Businesses or other for-profit, not-for-profit institutions.

Number of Respondents: 350.

Estimated Hours Per Response: 55 hours (5 hours applicant; 40 hours consulting engineer; 10 hours attorney).

Frequency of Response: On occasion.

Cost to Respondents: $2,800,000.

Estimated Total Annual Burden: 1,750 hours.

Needs and Uses: Section III-D of the FCC 301 and Section VII of the FCC 340 begin with a “Certification Checklist.” This checklist contains a series of questions by which applicants may certify compliance with key processing requirements. The first certification requires conformance with the DTV Table of Allotments. The Commission allows flexibility for DTV facilities to be constructed at locations within five kilometers of the reference allotment sites without consideration of additional interference to analog or DTV service, provided the DTV service does not exceed the allotment reference height above average terrain or effective radiated power. In order for the Commission to process applications that cannot certify affirmatively, Section 73.623(c) requires applicants to submit a technical showing to establish that their proposed facilities will not result in additional interference to TV broadcast and DTV operations.

Additionally, the Commission permits broadcasters to agree to proposed DTV facilities that do not conform to the initial allotment parameters, even though they might be affected by potential new interference. The Commission will consider granting applications on the basis of interference agreements if it finds that such grants will serve the public interest. These agreements must be signed by all parties to the agreement. In addition, the Commission needs the following information to enable such public interest determinations: a list of parties predicted to receive additional interference from the proposed facility, a showing as to why a grant based on the agreements would serve the public interest, and technical studies depicting the additional interference.

This collection has been revised to remove all references to industry frequency coordination committees. These committees did not evolve. Respondents have been using consulting engineers and attorneys to prepare the technical showings and interference agreements.

The technical showings and interference agreements will be used by FCC staff to determine if the public interest would be served by the grant of the application and to ensure that the proposed facilities will not result in additional interference.

OMB Control Number: 3060-0960.

Title: Application of Network Non-duplication Protection, Syndicated Exclusivity and Sports Blackout Rules to Satellite Retransmissions.

Form Number: N/A.

Type of Review: Extension of a currently approved collection.

Respondents: Business of other for-profit entity.

Number of Respondents: 1,407.

Estimated Time Per Response: 0.50 hours per information request, and 1 hour per notification.

Total Annual Burden: 29,867 hours.

Total Annual Costs: $716,808.

Needs and Uses: The information collection requirements in this Notice are used by the Commission to apply a satellite carrier's retransmission of superstations, network non-duplication, syndicated exclusivity and sports blackout rules as they currently apply to cable operators.

Federal Communications Commission.
Magalie Roman Salas,
Secretary.

[FR Doc. 01-10868 Filed 5-1-01; 8:45 am]

BILLING CODE 6712-01-P